DEPARTMENT OF HOMELAND SECURITY

Coast Guard

33 CFR Part 117

[CGD01-05-017]

Drawbridge Operation Regulations: Harlem River, NY

AGENCY: Coast Guard, DHS.

ACTION: Notice of temporary deviation from regulations.

SUMMARY: The Commander, First Coast Guard District, has issued a temporary deviation from the drawbridge operation regulations for the Triborough 125th Street Bridge, at mile 1.3, across the Harlem River, New York. Under this temporary deviation the Triborough 125th Street Bridge may remain in the closed position for thirty-days, April 1, 2005, through April 30, 2005. The purpose of this temporary deviation is to facilitate major structural repairs at the bridge.

DATES: This deviation is effective from April 1, 2005, through April 30, 2005.

FOR FURTHER INFORMATION CONTACT: Joe Arca, Project Officer, First Coast Guard District, Bridge Program (212) 668-7165.

SUPPLEMENTARY INFORMATION: The Triborough 125th Street Bridge has a vertical clearance in the closed position of 54 feet at mean high water and 59 feet at mean low water. The existing drawbridge operation regulations are listed at 33 CFR 117.789(d).

The owner of the bridge, MTA Bridges and Tunnels, requested a temporary deviation from the drawbridge operation regulations to allow the bridge to remain in the closed position for thirty-days in order to facilitate major structural repairs at the bridge. The bridge will not be capable of opening once these repairs commence. The Triborough 125 Street Bridge rarely opens for the passage of vessel traffic.

Under this temporary deviation the Triborough 125th Street Bridge may remain in the closed position for thirty-days, April 1, 2005, through April 30, 2005.

This deviation from the operating regulations is authorized under 33 CFR 117.35, and will be performed with all due speed in order to return the bridge to normal operation as soon as possible.

Dated: February 16, 2005.
Gary Kassof,
Bridge Program Manager, First Coast Guard District.

[FR Doc. 05-3762 Filed 2-25-05; 8:45 am]

BILLING CODE 4910-15-P